DEPARTMENT OF COMMERCE

National Oceanic and Atmospheric Administration

RIN 0648-XP15

Endangered Species; File No. 1596-02

AGENCY: National Marine Fisheries Service (NMFS), National Oceanic and Atmospheric Administration (NOAA), Commerce.

ACTION: Notice; receipt of application for modification

SUMMARY: Notice is hereby given that NMFS Southwest Fisheries Science Center (SWFSC), 3333 N. Torry Pines Ct., La Jolla, CA 92037, has requested a modification to scientific research Permit No. 1596-01.

DATES: Written, telefaxed, or e-mail comments must be received on or before June 12, 2009.

ADDRESSES: The modification request and related documents are available for review upon written request or by appointment in the following offices:Permits, Conservation and Education Division, Office of Protected Resources, NMFS, 1315 East-West Highway, Room 13705, Silver Spring, MD 20910; phone (301) 713-2289; fax (301) 427-2521; and Southwest Region, NMFS, 501 West Ocean Blvd., Suite 4200, Long Beach, CA 90802-4213; phone (562) 980-4001; fax (562) 980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301) 427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1596-02.

FOR FURTHER INFORMATION CONTACT: Patrick Opay, (301) 713-2289.

SUPPLEMENTARY INFORMATION: The subject modification to Permit No. 1596-01, issued on August 21, 2008, is requested under the authority of the Endangered Species Act of 1973, as amended (16 U.S.C. 1531 et seq.) and the regulations governing the taking, importing, and exporting of endangered and threatened species (50 CFR 222-226).

Permit No. 1596-01 authorizes the permit holder to capture, measure, weigh, blood and tissue sample, photograph, flipper and PIT tag, satellite tag, and attach a VHF/TDR/sonic tag/video system to leatherback sea turtles during research activities conducted off the western coast of the continental United States. The permit holder requests authorization to annually fat biopsy and ultrasound up to 38 leatherback sea turtles as part of a health and nutritional assessment of this species. The permit holder also requests authority to close approach and attach VHR/TDR/sonic tag/GPS/video camera units by suction cup on up to 20 leatherback sea turtles annually, and to later capture the same animals to remove the unit and then sample, tag, and attach another VHR/TDR/sonic tag/GPS/video camera unit to the animals before release. Additionally, the permit holder requests authorization to annually attach a VHR/TDR/sonic tag/GPS unit and tissue sample 20 leatherback sea turtles using a biopsy pole. The permit currently authorizes researchers to attach the unit or tissue sample 20 animals, not both. The number of leatherback sea turtles captured would not increase under the modification, but the mix of activities conducted on each animal would. The research would continue to occur in waters off the coast of the western United States through February 1, 2012.

Dated: May 5, 2009.
P. Michael Payne,
Chief, Permits, Conservation and Education Division, Office of Protected Resources, National Marine Fisheries Service.

[FR Doc. E9-11186 Filed 5-12-09; 8:45 am]

BILLING CODE 3510-22-S